OFFICE OF PERSONNEL MANAGEMENT

Federal Employees' Group Life Insurance Program: New Option B Premiums

AGENCY: Office of Personnel Management.

ACTION: Notice.

SUMMARY: The Office of Personnel Management (OPM) is announcing new Federal Employees' Group Life Insurance (FEGLI) premiums for the upper age bands of Option B. The premiums will be maintained on the FEGLI Web site at http://www.opm.gov/insure/life.

EFFECTIVE DATE: January 1, 2005.

FOR FURTHER INFORMATION CONTACT: Karen Leibach, (202) 606-0004.

SUPPLEMENTARY INFORMATION: On December 30, 2002, OPM published a Federal Register notice (67 FR 79659) announcing premium changes for FEGLI and new age bands for Options B and C. The premiums for the new Option B age bands are being phased in over a 3-year period. The first set of premiums for these age bands was effective the first pay period beginning on or after January 1, 2003. The second set of premiums for these age bands was effective the first pay period beginning on or after January 1, 2004.

This notice announces the third and final phase of the Option B premium changes. These premiums are effective the first pay period beginning on or after January 1, 2005.

Option B Premium Per $1,000 of Insurance
Age band | Biweekly | Monthly
65-69 | $0.72 | $1.560
70-74 | 1.20 | 2.600
75-79 | 1.80 | 3.900
80 and over | 2.40 | 5.200

The premiums for compensationers, who are paid every 4 weeks, are 2 times the biweekly premium amounts.

Premiums for other FEGLI coverages, including premiums for other Option B age bands, are not changing.

Kay Coles James,
Director, U.S. Office Of Personnel Management.

[FR Doc. 04-21305 Filed 9-22-04; 8:45 am]

BILLING CODE 6325-50-P